DEPARTMENT OF ENERGY

Federal Energy Regulatory Commission

[Docket No. RP11-1823-000]

Public Utilities Commission of Nevada and Sierra Pacific Power Company v. Tuscarora Gas Transmission Company; Notice of Complaint

Take notice that on February 28, 2011, pursuant to section 5 of the Natural Gas Act, 15 USC 717d(a) (2006) and Rule 206 of the Federal Energy Regulatory Commission's Rules of Practice and Procedure, 18 CFR 385.206 (2010), Public Utilities Commission of Nevada and Sierra Pacific Power Company (Complainants) filed a formal complaint against Tuscarora Gas Transmission Company (Tuscarora) (Respondent), alleging that Tuscarora's rates for jurisdictional services are unjust and unreasonable and asking the Commission to determine just and reasonable rates and to establish an interim rate reduction.

Complainants certify that copies of the complaint were served on individuals listed on the Commission's official service list.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 18, 2011.

Dated: March 2, 2011.
Nathaniel J. Davis, Sr.,
Deputy Secretary.

[FR Doc. 2011-5414 Filed 3-9-11; 8:45 am]

BILLING CODE 6717-01-P